DEPARTMENT OF AGRICULTURE

Forest Service

Notice of Intent To Prepare an Environmental Impact Statement for the Emigrant Wilderness Dams on the Stanislaus National Forest, Tuolumne County, CA

AGENCY: Forest Service, USDA.

ACTION: Notice of intent to prepare an environmental impact statement.

SUMMARY: The USDA Forest Service will prepare an Environmental Impact Statement (EIS) on a proposal to reconstruct, operate, and maintain 12 dams, to allow 6 dams to deteriorate naturally, and to restore 50-100 feet of the channel downstream from unit #7 on Long Lake in the Emigrant Wilderness on National Forest land in the county of Tuolumne.

The Stanislaus National Forest issued an EIS, ROD, and Forest Plan Amendment for the Emigrant Wilderness Management Direction on April 8, 1998. Because of subsequent administrative appeals, the Regional Forester later issued an appeal review decision. The “Emigrant Wilderness Management Direction” (April 2002) presents the current Emigrant Wilderness Management Direction, based on the original Forest Plan Amendment as modified through the appeal review process. In order to implement the Stanislaus National Forest Plan, specifically the Emigrant Wilderness Management Direction, there is a need to complete site-specific analyses and to determine if and how the 18 dams should be maintained or not maintained.

DATES: Submit comments on or before March 5, 2003.

The Draft EIS is expected to be filed with the Environmental Protection Agency (EPA) and to be available for public review during the fall of 2003. At that time, EPA will publish a Notice of Availability of the Draft EIS in the Federal Register. The comment period on the Draft EIS will be 45 days from the date the EPA publishes the Notice of Availability in the Federal Register. The Final EIS is scheduled to be completed in the winter of 2004.

ADDRESSES: Address all comments concerning this notice to the Stanislaus National Forest, ATTN: Emigrant Dams, 19777 Greenley Road, Sonora, CA 95370. E-mail comments may be sent to jmaschi@fs.fed.us.

FOR FURTHER INFORMATION CONTACT: John Maschi, Forest Planner, Stanislaus National Forest, (209) 532-3671 ext. 317.

SUPPLEMENTARY INFORMATION: The information presented in this notice is included to help the reviewer determine if they are interested in or potentially affected by the proposed action.

Background

Congress designated the 113,000 acre Emigrant Wilderness on January 3, 1975. Its borders include Yosemite National Park on the south, the Toiyabe National Forest on the east, and State Highway 108 on the north. The Emigrant Wilderness is an elongated area that trends northeast about 25 miles in length and up to 15 miles in width. Watersheds drain to the Stanislaus and Tuolumne rivers. The Wilderness is entirely within Tuolumne County.

Eighteen water control structures (dams) existed in the Emigrant Wilderness before its designation in 1975. Most of the dams were constructed in the 1920's and 1930's to develop a resident fishery. Prior to fish stocking by cattlemen during the 1890's, these high elevation lakes were naturally fishless. The original intent of most of the dams was to enhance downstream flows for fish habitat, not necessarily to promote lake fisheries. The remaining Emigrant Wilderness dams were built as late as 1951. The dams are composed mostly of rock and mortar (with the exception of one earth-filled dam). Because of the age and theme of some dams, seven are now eligible for the National Register of Historic Places.

Purpose and Need for Action

The Stanislaus National Forest issued an EIS, ROD, and Forest Plan Amendment for the Emigrant Wilderness Management Direction on April 8, 1998. Because of subsequent administrative appeals, the Regional Forester later issued an appeal review decision. The “Emigrant Wilderness Management Direction” (April 2002) presents the current Emigrant Wilderness Management Direction, based on the original Forest Plan Amendment as modified through the appeal review process.

In order to implement the Stanislaus National Forest Plan, specifically the Emigrant Wilderness Management Direction, there is a need to complete site-specific analyses and to determine if and how 18 dams should be maintained or not maintained.

Proposed Action

The Stanislaus National Forest proposes to reconstruct, operate, and maintain 12 dams in the Emigrant Wilderness. In addition, the Forest proposes to restore 50-100 feet of the channel downstream of Unit #7 on Long Lake. The Forest also proposes not to maintain six dams. These dams would be allowed to deteriorate naturally in order to restore natural processes. Attachment 1 provides a listing of the dams to be maintained and not maintained.

Reconstruction and standard maintenance would be completed using minimum tool and pack-it-in/pack-it-out philosophy and use native materials from the immediate vicinity (if available). No mechanized or motorized equipment would be used, materials would be packed in using livestock, and hand labor would be used for maintenance and reconstruction needs. Any temporary access routes to project sites would be designated by the Forest Service and decommissioned immediately following completion of the work. All activities would be conducted according to existing Forest Service law, regulation, policy, and direction (e.g. group size limits and campfire restrictions).

Standard maintenance of the 12 dams would also include, but not be limited to, log removal if the integrity of the structure were threatened, mortar replacement on the upstream face of the structure, and minor rock replacement.

Because no special funding is expected for this project, implementation would depend upon obtaining funds other than normal Forest Service appropriated dollars. Maintenance and reconstruction would depend on funding and participation from interested partners, volunteers, etc.

The information below provides a summary of the proposed action which lists each of the 18 dams followed by:

a. Whether the dam is proposed to be maintained,

b. The initial activities proposed for the dam, and

c. Preliminary issues associated with the dam.

1. Cooper Meadow Dam

a. No maintenance.

b. No activities proposed.

c. Returning the area to natural processes.

2. Whitesides Meadow Dam

a. No maintenance.

b. No activities proposed.

c. Returning the area to natural processes.

3. Y-Meadow Dam

a. Maintain.

b. Replace outlet valve, control shaft/wheel, and sleeve outlet conduit and seal mortar on upstream face.

c. Habitat for Mountain yellow-legged frog (MYLF) and values of the proposed Wild & Scenic River (W&SR).

4. Bear Lake Dam

a. No maintenance.

b. No activities proposed.

c. Returning the area to natural processes, values of proposed W&SR, and wild trout fishery on Lower Clavey.

5. Long Lake Dam

a. Maintain.

b. Replace outlet valve, control shaft/wheel, and sleeve outlet conduit, repair control works well shaft, stabilize downstream base of Unit #7, and seal mortar on upstream face.

c. Historic values, recreational lake fishery, habitat for MYLF, and downstream flows for rainbow trout recruitment.

6. Lower Buck Lake Dam

a. Maintain.

b. Replace outlet valve, control shaft/wheel, and sleeve outlet conduit, log removal, and seal mortar on upstream face.

c. Historic values, downstream flows for rainbow trout recruitment, recreational lake fishery, and habitat for MYLF.

7. Red Can Lake Dam

a. No maintenance.

b. No activities proposed.

c. Returning the area to natural processes.

8. Leighton Lake Dam

a. Maintain.

b. Replace outlet valve, control shaft/wheel, and sleeve outlet conduit, disassemble and rebuild dam, construct control works well shaft, and seal mortar on upstream face.

c. Historic values and downstream self-sustaining fishery.

9. Yellowhammer Lake Dam

a. No maintenance.

b. No activities proposed.

c. Returning the area to natural processes.

10. High Emigrant Lake Dam

a. Maintain.

b. Replace outlet valve, control shaft/wheel, and sleeve outlet conduit, rebuild outlet control works well shaft, and seal mortar on upstream face.

c. Habitat for Yosemite toad (YT) and downstream flows for rainbow trout recruitment.

11. Emigrant Meadow Dam

a. Maintain.

b. Replace outlet valve, replace control shaft/wheel, insert plastic pipe into existing outlet conduit, and seal mortar on upstream face.

c. Historic values, habitat for YT, recreational lake fishery, and self-sustaining lake fishery.

12. Middle Emigrant Lake Dam

a. Maintain.

b. Rebuild failed left side of dam, insert plastic pipe into existing outlet conduit, replace outlet valve, and seal mortar on upstream face.

c. Habitat for MYLF, downstream flows for rainbow trout recruitment, and self-sustaining lake fishery.

13. Emigrant Lake Dam

a. Maintain.

b. Stabilize mortar downstream face of dam, repair spillway dike, and seal mortar on upstream face.

c. Historic values, recreational lake fishery, self-sustaining lake fishery, and downstream flows for rainbow trout recruitment.

14. Cow Meadow Lake Dam

a. Maintain.

b. Reconstruct entire Unit #1.

c. Habitat for MYLF and self-sustaining lake fishery.

15. Snow Lake Dam

a. Maintain.

b. Replace outlet valve, control shaft/wheel, and sleeve outlet conduit and seal mortar on upstream face.

c. Downstream self-sustaining fishery, recreational lake fishery, and habitat for MYLF.

16. Horse Meadow Dam

a. No maintenance.

b. No activities proposed.

c. Returning the area to natural processes.

17. Bigelow Lake Dam

a. Maintain.

b. Replace outlet valve, control shaft/wheel and sleeve outlet conduit, replace missing rocks, and seal mortar on upstream face.

c. Historic values, recreational lake fishery, and downstream flows for rainbow trout recruitment.

18. Huckleberry Lake Dam

a. Maintain.

b. Replace outlet valve, control shaft/wheel and sleeve outlet conduit, replace missing rocks, and seal mortar on upstream face.

c. Recreational lake fishery, self-sustaining lake fishery, and downstream recreational fishery.

Responsible Official

The Forest Supervisor, Stanislaus National Forest, is the Responsible Official.

Nature of Decision To Be Made

The Forest Supervisor, as Responsible Official, may decide to: (1) Select the proposed action, (2) select one of the alternatives, (3) select one of the alternatives after modifying the alternative with additional mitigating measures or combinations of activities from other alternatives, or (4) select the no action alternative and take no action at this time.

Comment Requested

The Forest Service would like to know of any issues, concerns, and suggestions you may have about this proposal. Comments should be as fully formed as possible to assist us in the analysis. If you have any questions, or if something is unclear, contact John Maschi at 209.532.3671 ext. 317 before submitting your comments. Although comments are welcome at any time, they will be most effective if received by March 5, 2003. Send comments to:

Stanislaus National Forest, ATTN: Emigrant Dams, 19777 Greenly Road, Sonora, CA 95370.

Alternately, e-mail your comments to jmaschi@fs.fed.us.

Authorization

National Environmental Policy Act of 1969 as amended (42 U.S.C. 4321-4346); Council on Environmental Quality Regulations (40 CFR parts 1500-1508); U.S. Department of Agriculture NEPA Policies and Procedures (7 CFR part 1b).

Reviewer's Obligation

The Forest Service believes, at this early stage, it is important to give reviewers notice of several court rulings related to public participation in the environmental review process. First, reviewers of draft environmental impact statements must structure their participation in the environmental review of the proposal so that it is meaningful and alerts the agency to the reviewer's position and contentions. Vermont Yankee Nuclear Power Corp. v. NRDC, 435 U.S. 519, 553 (1978). Also, environmental objections that could be raised at the draft environmental impact stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wisc. 1980). Because of these court rulings, it is very important that those interested in this proposed action participate by the close of the comment period so that substantive comments and objections are made available to the Forest Service at the time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewer may wish to refer to the Council on Environmental Quality Regulations for implementing the procedural provisions of the National Environmental Policy Act at 40 CFR 1503.3 in addressing these points (Authority: 40 CFR 1501.7 and 1508.22; Forest Service Handbook 1909.15, Section 21).

Dated: January 24, 2003.
Tom Quinn,
Forest Supervisor, Stanislaus National Forest.

[FR Doc. 03-2275 Filed 1-31-03; 8:45 am]

BILLING CODE 3410-11-P